DEPARTMENT OF HOMELAND SECURITY

Federal Emergency Management Agency

44 CFR Part 65

[Docket No. FEMA-B-7788]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Madison | City of Huntsville (08-04-1223P) | May 2, 2008; May 9, 2008; Madison County Record | The Honorable Loretta Spencer, Mayor, City of Huntsville, 308 Fountain Circle, Huntsville, AL 35801 | April 29, 2008 | 010153
Montgomery | Unincorporated areas of Montgomery County (07-04-6294P) | March 7, 2008; March 14, 2008; Montgomery Advertiser | The Honorable Todd Strange, Chairman, Montgomery County Commission, P.O. Box 1667, Montgomery, AL 36102-1667 | July 14, 2008 | 010278
Arizona:
Maricopa | Unincorporated areas of Maricopa County (07-09-1830P) | April 10, 2008; April 17, 2008; Arizona Business Gazette | The Honorable Andrew W. Kunasek, Chairman, Maricopa County, Board of Supervisors, 301 West Jefferson Street, 10th Floor, Phoenix, AZ 85003 | April 1, 2008 | 040037
Maricopa | Town of Queen Creek (07-09-1830P) | April 10, 2008; April 17, 2008; Arizona Business Gazette | The Honorable Art Sanders, Mayor, Town of Queen Creek, 22350 South Ellsworth Road, Queen Creek, AZ 85242 | April 1, 2008 | 040132
Mohave | City of Kingman (08-09-0713P) | May 14, 2008; May 21, 2008; Kingman Daily Miner | The Honorable Lester Byram, Mayor, City of Kingman, 310 North Fourth Street, Kingman, AZ 86401 | September 18, 2008 | 040060
Mohave | Unincorporated areas of Mohave County (08-09-0713P) | May 14, 2008; May 21, 2008; Kingman Daily Miner | The Honorable Pete Byers, Chairman, Mohave County, Board of Supervisors 700 West Beale Street, Kingman, AZ 86401 | September 18, 2008 | 040058
Pima | City of Tucson (07-09-1087P) | April 10, 2008; April 17, 2008; Daily Territorial | The Honorable Bob Walkup, Mayor, City of Tucson, P.O. Box 27210, Tucson, AZ 85726 | May 4, 2008 | 040076
Yavapai | Town of Prescott Valley (07-09-1850P) | May 22, 2008; May 29, 2008; Prescott Daily Courier | The Honorable Harvey C. Skoog, Mayor, Town of Prescott Valley ,7501 East Civic Circle, Prescott Valley, AZ 86314 | May 9, 2008 | 040121
Yavapai | Unincorporated areas of Yavapai County (07-09-1850P) | May 22, 2008; May 29, 2008; Prescott Daily Courier | The Honorable Carol Springer, Chairman, Yavapai County, Board of Supervisors 1015 Fair Street, Prescott, AZ 86305 | May 9, 2008 | 040093
Arkansas: Pulaski | City of North Little Rock (08-06-1262P) | May 17, 2008; May 24, 2008; Arkansas Democrat Gazette | The Honorable Patrick H. Hays, Mayor, City of North Little Rock, 300 Main Street, North Little Rock, AR 72114 | May 6, 2008 | 050182
California: Sacramento | Unincorporated areas of Sacramento (08-09-0022P) | April 24, 2008; May 1, 2008; Daily Recorder | The Honorable Jimmie Yee, Chairman, Sacramento County, Board of Supervisors, 700 H Street, Suite 2450, Sacramento, CA 95814 | August 29, 2008 | 060262
Colorado: Douglas | Town of Castle Rock (08-08-0159P) | May 15, 2008; May 22, 2008; Douglas County News-Press | The Honorable Randy Reed, Mayor, Town of Castle Rock, 100 North Wilcox Street, Castle Rock, CO 80104 | September 19, 2008 | 080050
Delaware: Kent | Unincorporated areas of Kent County (08-03-0601P) | May 21, 2008; May 28, 2008; Dover Post | The Honorable P. Brooks Banta, President, Kent County, 555 Bay Road, Dover, DE 19901 | September 18, 2008 | 100001
Florida: Sarasota | City of Sarasota (08-04-3096P) | May 16, 2008; May 23, 2008; Herald Tribune | The Honorable Lou Ann Palmer, Mayor, City of Sarasota, 1565 First Street, Room 101, Sarasota, FL 34236 | April 30, 2008 | 125150
Hawaii: Maui | Unincorporated areas of Maui County (07-09-0822P) | April 3, 2008; April 10, 2008; Maui News | The Honorable Charmaine Tavares, Mayor, County of Maui, 200 South High Street, Ninth Floor, Wailuku, HI 96793 | March 25, 2008 | 150003
Idaho: Bonneville | Unincorporated areas of Bonneville County (08-10-0105P) | April 4, 2008; April 11, 2008; Post Register | The Honorable Lee Staker, Chairman, Bonneville County, Board of Commissioners, 605 North Capital Avenue, Idaho Falls, ID 83402 | March 27, 2008 | 160027
Minnesota: Sherburne | City of Elk River (08-05-0592P) | April 16, 2008; April 23, 2008; Star News | The Honorable Stephanie Klinzing, Mayor, City of Elk River, 13065 Orono Parkway, Elk River, MN 55330 | August 15, 2008 | 270436
Missouri:
St. Louis | Town of Huntleigh (08-07-0367P) | May 17, 2008; May 24, 2008; The Countian | The Honorable Paul Von Gontard, Mayor, Town of Huntleigh, One City Center, Suite 15002845, South Lindbergh Boulevard, St. Louis, MO 63101 | September 19, 2008 | 290359
St. Louis | City of Ladue (08-07-0367P) | May 17, 2008; May 24, 2008; The Countian | The Honorable Irene Holmes, Mayor, City of Ladue, 9345 Clayton Road, St. Louis, MO 63124 | September 19, 2008 | 290363
New York: Rockland | Town of Clarkstown (08-02-0127P) | May 22, 2008; May 29, 2008; Rockland County Times | The Honorable Alexander J. Gromack, Supervisor, Town of Clarkstown, Ten Maple Avenue, New City, NY 10956 | November 18, 2008 | 360679
Ohio:
Franklin | City of Columbus (07-05-1194P) | April 10, 2008; April 17, 2008; Columbus Dispatch | The Honorable Michael B. Coleman, Mayor, City of Columbus, 90 West Broad Street, Columbus, OH 43215 | August 18, 2008 | 390170
Ohio:
Franklin | Unincorporated areas of Franklin County (07-05-1194P) | April 10, 2008; April 17, 2008; Columbus Dispatch | The Honorable Marilyn Brown, President, Franklin County, Board of Commissioners, 373 South High Street, 26th Floor, Columbus, OH 43215 | August 18, 2008 | 390167
Ohio:
Warren | City of Middletown (08-05-0820P) | May 1, 2008; May 8, 2008; Pulse-Journal | The Honorable Larry Mulligan, Jr., Mayor, City of Middletown, One Donham Plaza, Middletown, OH 45042 | September 5, 2008 | 390040
South Carolina: Jasper | Town of Hardeeville (08-04-3462P) | May 9, 2008; May 16, 2008; Beaufort Gazette | The Honorable A. Brooks Willis, Mayor, Town of Hardeeville, 205 East Main Street, Hardeeville, SC 29927 | September 15, 2008 | 450113
Tennessee:
Davidson | Metropolitan Government of Nashville and Davidson County (08-04-0256P) | May 12, 2008; May 19, 2008; The Tennessean | The Honorable Karl Dean, Mayor, Metropolitan Government of Nashville and Davidson County, 100 Metropolitan Courthouse, Nashville, TN 37201 | September 15, 2008 | 470040
Knox | Unincorporated areas of Knox County (08-04-3041P) | May 15, 2008; May 21, 2008; Knoxville News-Sentinel | The Honorable Mike Ragsdale, Mayor, Knox County, 400 Main Street, Suite 615, Knoxville, TN 37902 | April 30, 2008 | 475433
Texas:
Bexar | Unincorporated areas of Bexar County (08-06-0794P) | May 22, 2008; May 29, 2008; San Antonio Express-News | The Honorable Nelson W. Wolff, Bexar County Judge, 100 Dolorosa Street, Suite 120, San Antonio, TX 78205 | September 19, 2008 | 480035
Bexar | City of San Antonio (08-06-0040P) | May 5, 2008; May 12, 2008; San Antonio Express-News | The Honorable Phil Hardberger, Mayor, City of San Antonio, P.O. Box 839966, San Antonio, TX 78283 | April 28, 2008 | 480045
Hays | City of Kyle (08-06-0338P) | May 7, 2008; May 14, 2008; Hays Free Press | The Honorable Miguel Gonzalez, Mayor, City of Kyle, 116 Fall Creek Drive, Kyle, TX 78640 | September 11, 2008 | 481108
Montgomery | Unincorporated areas of Montgomery County (07-06-1592P) | May 14, 2008; May 21, 2008Montgomery County News | The Honorable Alan B. Sadler, Montgomery County Judge, 310 North Thompson Street, Suite 210, Conroe, TX 77301 | May 30, 2008 | 480483
Williamson | City of Round Rock (07-06-2411P) | May 13, 2008; May 20, 2008; Round Rock Leader | The Honorable Nyle Maxwell, Mayor, City of Round Rock, 221 East Main Street, Round Rock, TX 78664 | September 17, 2008 | 481048
Utah: Salt Lake | Unincorporated areas of Salt Lake County (08-08-0060P) | May 2, 2008; May 9, 2008; Salt Lake Tribune | The Honorable Peter Corroon,Mayor, Salt Lake County, 2007 South State Street, Salt Lake City, UT 84190-1020 | September 8, 2008 | 490102
Wisconsin: Washington | Village of Germantown (08-05-2438P) | May 6, 2008; May 13, 2008; West Bend Daily News | The Honorable Thomas Kempinski, President, Village of Germantown, W169 N11504 Biscayne Drive, Germantown, WI 53022 | September 10, 2008 | 550472

(Catalog of Federal Domestic Assistance No. 97.022, “Flood Insurance.”)

Dated: June 10, 2008.
David I. Maurstad,
Federal Insurance Administrator of the National Flood Insurance Program, Department of Homeland Security, Federal Emergency Management Agency.

[FR Doc. E8-13931 Filed 6-19-08; 8:45 am]

BILLING CODE 9110-12-P